DEPARTMENT OF DEFENSE

Department of the Army, Corps of Engineers

Notice of Availability of Draft Environmental Impact Statement for the Proposed Honolulu Seawater Air Conditioning Project, Honolulu, HI

AGENCY: Department of the Army, U.S. Army Corps of Engineers, DOD.

ACTION: Notice of Availability.

SUMMARY: Pursuant to the National Environmental Policy Act (NEPA), the U.S. Army Corps of Engineers, Honolulu District has prepared a Draft Environmental Impact Statement (DEIS) to inform a decision on an application from Honolulu Seawater Air Conditioning, LLC to construct a seawater air conditioning system (SWAC) at Kaka`ako on the south shore of O`ahu. The applicant's overall project purpose is to provide a renewable-energy air conditioning system for downtown Honolulu buildings. In order to obtain deep, cold seawater to chill fresh water that would circulate through the SWAC system and return it to the ocean after it has passed through onshore heat exchangers, the applicant proposes to construct intake and return pipelines in adjacent coastal waters. The proposed pipeline staging and installation sites are located within the navigable waters of the United States and the proposed activity is subject to the jurisdiction of the U.S. Army Corps of Engineers. Proposed onshore improvements and upland infrastructure are briefly described to provide an overview of the project, but their impacts to terrestrial environmental resources are not a primary focus of the document.

Of primary federal concern are potential effects of proposed in-water construction, including the discharge of fill material at the offshore pipeline receiving pit, and operation of the system on the quality of the human environment. The DEIS considers alternative cooling technologies, cooling station designs and locations, pipeline installation methods, diffuser location and depth, and intake design. It evaluates two alternatives involving different pipeline alignments. Identified environmental resources potentially affected include marine biota and habitat; water quality; navigation and other human use; noise; and air quality.

DATES: All written comments must be postmarked or electronically transmitted on or before May 2, 2011.

ADDRESSES: Comments may be submitted in writing to: Mr. Peter C. Galloway, Project Manager; U.S. Army Corps of Engineers, Honolulu District; Regulatory Branch (CEPOH-EC-R); Building 230; Fort Shafter, HI 96858-5440. Comments may also be submitted via e-mail to honoluluswac@usace.army.mil.

FOR FURTHER INFORMATION CONTACT: Peter C. Galloway at (808) 438-8416, or via e-mail at peter.c.galloway@usace.army.mil.

SUPPLEMENTARY INFORMATION: To obtain, utilize, and return deep, cold seawater, Honolulu Seawater Air Conditioning, LLC (applicant) proposes to construct a 63-inch diameter seawater intake pipe extending offshore approximately four miles, to a depth of 1,600 to 1,800 feet; a 54-inch diameter seawater return pipe extending offshore approximately 3,500 feet, to a depth of 150 feet; an on-shore cooling station containing pumps, heat exchangers and auxiliary chillers; and a network of upland distribution pipes to circulate cooled fresh water from the station to customer buildings in the downtown area. In addition, the applicant proposes to use an area along the western shore of Sand Island and the adjoining channel area of Ke`ehi Lagoon for pipeline assembly and staging prior to towing and installing the lines at the project site. Individual pipe segments would be heat-fused to form longer segments and then flange-bolted to form a continuous line.

At the project site, the pipelines would be buried from behind the shore to some depth offshore in order to reduce negative impacts to the benthic environment and to protect the pipes from high waves and storm surge in the nearshore zone. An offshore receiving pit would be excavated and backfilled at the pipeline “breakout” location. The offshore portions of the intake and return pipelines, which would be installed adjacent to each other, would be supported on pre-cast concrete supports which would be placed on the pipelines prior to their filling and sinking at the project site. The seaward end of the intake line would be unscreened and would terminate in a right-angle elbow, such that water would be drawn down into the pipe from about 14 feet above the sea bottom. The seaward end of the return pipeline would terminate in a diffuser section extending from depths of 120 to 150 feet.

The proposed project would involve work or structures in or affecting the course, condition, location or capacity of navigable waters of the United States. It would also involve the discharge of dredged or fill material into waters of the United States. Federal authorization of the project will therefore require issuance of a Department of the Army (DA) permit pursuant to both Section 10 of the Rivers and Harbors Act of 1899 (33 U.S.C. 403) and Section 404 of the Clean Water Act (33 U.S.C. 1344).

USACE invites participation in the EIS process of federal, state and local agencies; Hawaiian organizations, individuals and practitioners; and other interested private organizations and parties.

An electronic version of the DEIS may be viewed by visiting the USACE Honolulu District Web site at http://www.poh.usace.army.mil and selecting “Public Notices”, then the link provided within the listing for Special Public Notice No. POH-2004-01141. A CD copy of the document may be obtained by contacting Mr. Galloway in writing at the mailing address or the contact e-mail address above. In addition, a hard copy of the DEIS may also be viewed at the Hawaii State Library (Hawaii & Pacific Section), 478 South King Street, Honolulu, Hawai`i 96813.

Dated: February 16, 2011.
Douglas B. Guttormsen,
Lieutenant Colonel, U.S. Army, Commanding.

[FR Doc. 2011-6426 Filed 3-17-11; 8:45 am]

BILLING CODE 3720-58-P